DEPARTMENT OF HEALTH AND HUMAN SERVICES

Draft National Plan To Address Alzheimer's Disease

AGENCY: Office of the Assistant Secretary for Planning and Evaluation, Department of Health and Human Services.

ACTION: Comment period.

SUMMARY: HHS is soliciting public input on the draft National Plan to Address Alzheimer's Disease, which is available at http://aspe.hhs.gov/daltcp/napa/NatlPlan.shtml.

DATES: Submit input by email or USPS mail before March 30, 2012.

ADDRESSES: You may submit your comments in one of two ways:

1. Electronically. You may submit electronic comments to napa@hhs.gov

2. By mail. You may mail written comments to:

Helen Lamont, Ph.D., Office of the Assistant Secretary for Planning and Evaluation, Room 424E Humphrey Building, Department of Health and Human Services, 200 Independence Avenue SW., Washington, DC 20201.

Please allow sufficient time for mailed comments to be received before the close of the comment period.

FOR FURTHER INFORMATION CONTACT: Helen Lamont (202) 690-7996, helen.lamont@hhs.gov.

SUPPLEMENTARY INFORMATION: Inspection of all Public Comments: All comments received before the close of the comment period are available for viewing by the public, including any personally identifiable or confidential business information that is included in a comment. We post all comments received on the following Web site as soon as possible after they have been received: http://aspe.hhs.gov/daltcp/napa/#comments.

Background

On January 4, 2011, President Barack Obama signed into law the National Alzheimer's Project Act (NAPA), requiring the Secretary of the U.S. Department of Health and Human Services (HHS) to establish the National Alzheimer's Project to:

• Create and maintain an integrated national plan to overcome Alzheimer's disease.

• Coordinate Alzheimer's disease research and services across all federal agencies.

• Accelerate the development of treatments that would prevent, halt, or reverse the course of Alzheimer's disease.

• Improve early diagnosis and coordination of care and treatment of Alzheimer's disease.

• Improve outcomes for ethnic and racial minority populations that are at higher risk for Alzheimer's disease.

• Coordinate with international bodies to fight Alzheimer's globally.

The law also establishes the Advisory Council on Alzheimer's Research, Care, and Services and requires the Secretary of HHS, in collaboration with the Advisory Council, to create and maintain a national plan to overcome Alzheimer's disease (AD).

On February 22, 2012, HHS released a draft National Plan to Address Alzheimer's Disease. The draft National Plan has five goals:

1. Prevent and Effectively Treat Alzheimer's Disease by 2025.

2. Optimize Care Quality and Efficiency.

3. Expand Supports for People with Alzheimer's Disease and Their Families.

4. Enhance Public Awareness and Engagement.

5. Track Progress and Drive Improvement.

The draft National Plan includes strategies to achieve each goal and specific actions that HHS or its federal partners will take to drive progress towards achieving the goal.

Sherry Glied,
Assistant Secretary for Planning and Evaluation.

[FR Doc. 2012-4278 Filed 2-23-12; 8:45 am]

BILLING CODE P